DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301)-443-1129.

The following request has been submitted to the Office of Management and Budget for review under the Paperwork Reduction Act of 1995:

Proposed Project: The Impact of the State Child Health Insurance Program on Selected Community Health Centers and Maternal and Child Health Programs: New

This study proposes to determine the impact of SCHIP implementation on the insurance status of children served by two HRSA programs—Community Health Centers (CHCs) and health departments' Maternal and Child Health (MCH) programs—as well as the impact of SCHIP on these grantee organizations.

Transactional data will be reviewed in up to 21 HRSA grantee organizations from seven States and will extract encounter-level administrative data (encrypted individual code, date of birth, gender, dates of service, CPT-4 codes, and insurance status) at time of each service for 1997, 1998, and 1999.

Up to 20 former CHC or MCH patients (or their parents or guardians in the case of minors) will be surveyed in each site for whom retrospective data are available but who are no longer active users of the HRSA grantees by phone.

The estimated response burden is as follows:

Transactional Data Extraction
Project form | Number of respondents | Responses per respondent | Total responses | Hours per response | Total hour burden
Survey | 21 | 20 | 420 | .33 | 139

Written comments and recommendations concerning the proposed information collection should be sent within 30 days of this notice to: John Morrall, Human Resources and Housing Branch, Office of Management and Budget, New Executive Office Building, Room 10235, Washington, DC 20503.

Dated: June 8, 2000.
Jane Harrison,
Director, Division of Policy Review and Coordination.

[FR Doc. 00-15123 Filed 6-14-00; 8:45 am]

BILLING CODE 4160-15-P